DEPARTMENT OF COMMERCE

International Trade Administration

[A-580-868]

Large Residential Washers From the Republic of Korea: Preliminary Results of the First Five-Year Sunset Review of the Antidumping Duty Order

AGENCY: Enforcement and Compliance, International Trade Administration, Department of Commerce.

SUMMARY: On January 2, 2018, the Department of Commerce (Commerce) initiated the first sunset review of the antidumping duty order on large residential washers from the Republic of Korea (Korea). Commerce determined that it was appropriate to conduct a full review. Commerce preliminarily finds that revocation of this antidumping duty order would be likely to lead to continuation or recurrence of dumping at the levels indicated in the “Preliminary Results of Review” section of this notice.

DATES: Applicable April 26, 2018.

FOR FURTHER INFORMATION CONTACT: David Goldberger, AD/CVD Operations, Office II, Enforcement and Compliance, International Trade Administration, U.S. Department of Commerce, 1401 Constitution Avenue NW, Washington, DC 20230; telephone: 202-482-4136.

SUPPLEMENTARY INFORMATION:

Background

On January 2, 2018, Commerce initiated the first sunset review of the antidumping duty order on large residential washers from Korea, in accordance with section 751(c) of the Tariff Act of 1930, as amended (the Act).¹ Commerce received a notice of intent to participate from Whirlpool Corporation (Whirlpool), within the deadline specified in 19 CFR 351.218(d)(1)(i).² Whirlpool claimed interested party status under section 771(9)(C) of the Act, as a domestic producer of large residential washers.

¹ See Initiation of Five-Year (Sunset) Review, 83 FR 100 (January 2, 2018) (Initiation).

² See Letter from Whirlpool re: “Five-Year (“Sunset”) Review of Antidumping and Countervailing Duty Orders on Large Residential Washers from Mexico and the Republic of Korea: Notice of Intent to Participate,” dated January 17, 2018.

Commerce exercised its discretion to toll all deadlines affected by the closure of the Federal Government from January 20 through January 22, 2018. As a result, the revised deadline for the preliminary results of this review is now April 25, 2018.³

³ See Memorandum, “Deadlines Affected by the Shutdown of the Federal Government,” dated January 23, 2018. All deadlines in this segment of the proceeding have been extended by three days.

Commerce received substantive responses from Whirlpool ⁴ and from LG Electronics Inc. (LGEKR), LG Electronics U.S.A., Inc. (LGEUS), and LG Electronics Alabama, Inc. (LGEAI) (collectively LGE) ⁵ within the 30-day deadline specified in 19 CFR 351.218(d)(3)(i). LGEKR claimed interested party status under section 771(9) of the Act as a foreign producer and foreign exporter of subject merchandise. LGEUS claimed interested party status under section 771(9) of the Act as a U.S. importer and a U.S. producer of subject merchandise. LGEAI claimed interested party status under section 771(9) of the Act as an importer and distributor or parts.

⁴ See Letter from Whirlpool re: “Five-Year (“Sunset”) Review of Antidumping Duty Order on Large Residential Washers from Korea: Substantive Response of Whirlpool Corporation to the Notice of Initiation of First Sunset Review,” dated February 5, 2018 (Whirlpool Substantive Response).

⁵ See Letter from LGE re: “LG Electronics' Notice of Intent to Participate and Substantive Response to Notice of Initiation of Sunset Review—Large Residential Washers from Korea,” dated February 5, 2018 (LGE Substantive Response).

On February 12, 2108, we received rebuttal comments from Whirlpool within the deadline specified in 19 CFR 351.218(d)(4).⁶

⁶ See Letter from Whirlpool re: “Five-Year (“Sunset”) Review of Antidumping Duty Order on Large Residential Washers from Korea: Rebuttal Comments on LGE's Substantive Response to the Notice of Initiation of First Sunset Review,” dated February 12, 2018 (Whirlpool Rebuttal).

On February 23, 2018, Commerce notified the U.S. International Trade Commission (ITC) that it did not receive an adequate substantive response from respondent interested parties.⁷ On February 26, 2018, Commerce notified the ITC that it had inadvertently not taken into consideration a substantive response from a respondent interested party and that, in accordance with 19 CFR 351.218(e)(2), it would conduct a full sunset review of this antidumping duty order.⁸

⁷ See Letter re: “Sunset Reviews Initiated on January 2, 2018,” dated February 23, 2018.

⁸ See Letter re: “Sunset Reviews Initiated on January 2, 2018,” dated February 26, 2018.

Scope of the Order

The products covered by the order are all large residential washers and certain subassemblies thereof from Korea. The products are currently classifiable under subheadings 8450.20.0040 and 8450.20.0080 of the Harmonized Tariff Schedule of the United States (HTSUS).

Products subject to this order may also enter under HTSUS subheadings 8450.11.0040, 8450.11.0080, 8450.90.2000, and 8450.90.6000. Although the HTSUS subheadings are provided for convenience and customs purposes, the written description of the merchandise subject to this scope is dispositive.⁹

⁹ For a complete description of the Scope of the Order, see Memorandum “Issues and Decision Memorandum for the Preliminary Results of First Sunset Review of the Antidumping Duty Order on Large Residential Washers from the Republic of Korea,” dated concurrently with this notice (Preliminary Decision Memorandum).

Analysis of Comments Received

All issues raised for the preliminary results of this sunset review are addressed in the Preliminary Decision Memorandum. The issues discussed in the Preliminary Decision Memorandum are the likelihood of continuation or recurrence of dumping, and the magnitude of the margins of dumping likely to prevail if this order were revoked.¹⁰ The Preliminary Decision Memorandum is a public document and is on file electronically via the Enforcement and Compliance's Antidumping and Countervailing Duty Centralized Electronic Service System (ACCESS). ACCESS is available to registered users at http://access.trade.gov and in the Central Records Unit, Room B8024 of the main Department of Commerce building. In addition, a complete version of the Preliminary Decision Memorandum can be accessed directly on the internet at http://enforcement.trade.gov/frn/. The signed Preliminary Decision Memorandum and the electronic version of the Preliminary Decision Memorandum are identical in content.

¹⁰ A list of topics discussed in the Preliminary Decision Memorandum can be found in the Appendix to this notice.

Preliminary Results of Review

Pursuant to section 752(c) of the Act, we determine that revocation of the antidumping duty order on large residential washers from Korea would be likely to lead to continuation or recurrence of dumping at weighted average margins up to 82.41 percent.

Interested parties may submit case briefs no later than 30 days after the date of publication of the preliminary results of this full sunset review, in accordance with 19 CFR 351.309(c)(1)(i). Rebuttal briefs, which must be limited to issues raised in the case briefs, may be filed not later than five days after the time limit for filing case briefs in accordance with 19 CFR 351.309(d). Any interested party may request a hearing within 30 days of publication of this notice in accordance with 19 CFR 351.310(c). A hearing, if requested, will be held two days after the date the rebuttal briefs are due. Commerce will issue a notice of final results of this full sunset review, which will include the results of its analysis of issues raised in any such comments, no later than September 4, 2018.

This five-year (sunset) review and notice are in accordance with sections 751(c), 752(c), and 777(i)(1) of the Act and 19 CFR 351.218(f)(1).

Dated: April 19, 2018.
Christian Marsh,
Deputy Assistant Secretary for Enforcement and Compliance.

Appendix

List of Topics Discussed in the Preliminary Decision Memorandum:

1. Summary

2. History of the Order

3. Background

4. Scope of the Order

5. Discussion of the Issues

a. Legal Framework

b. Likelihood of Continuation of Recurrence of Dumping

c. Magnitude of the Margin Likely To Prevail

6. Recommendation

[FR Doc. 2018-08777 Filed 4-25-18; 8:45 am]

BILLING CODE 3510-DS-P